DEPARTMENT OF ENERGY

Federal Energy Regulatory Commission

Meetings; Sunshine Act

March 9, 2006.

The following notice of meeting is published pursuant to section 3(a) of the government in the Sunshine Act (Pub. L. No. 94-409), 5 U.S.C 552b:

Agency Holding Meeting: Federal Energy Regulatory Commission.

Date and Time: March 16, 2006, 10 a.m.

Place: Room 2C, 888 First Street NE., Washington DC 20426.

Status: Open.

Matters to be Considered: Agenda.

*Note—Items listed on the agenda may be deleted without further notice.

Contact person for more information: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

903rd—Meeting—Regular Meeting
[March 16, 2006, 10 a.m.]
Item No. | Docket No. | Company
Administrative Agenda
A-1 | AD02-1-000 | Agency Administrative Matters.
A-2 | AD02-7-000 | Customer Matters, Reliability, Security and Market Operations.
A-3 | AD06-3-000 | Energy Market Update.
Electric
E-1 | OMITTED
E-2 | OMITTED
E-3 | EC03-131-003, EC03-131-004 | Oklahoma Gas and Electric Company and McClain LLC
E-4 | ER96-719-006, EL05-59-000 | MidAmerican Energy Company.
| ER96-719-008, ER99-2156-006 | Cordova Energy Company LLC.
E-5 | ER06-451-000 | Southwest Power Pool, Inc.
E-6 | ER06-356-000, ER06-356-001 | Midwest Independent Transmission System Operator, Inc.
E-7 | ER06-493-000 | Midwest Independent Transmission System Operator, Inc.
E-8 | ER06-487-000 | PJM Interconnection, L.L.C. and the PJM Transmission Owners.
| ER06-488-000 | PJM Interconnection, L.L.C., and Virginia Electric and Power Company (PJM South).
| ER06-489-000 | PJM Interconnection, L.L.C., and Monongahela Power Company, The Potomac Edison Company and West Penn Power Company, all doing business as Allegheny Power, American Electric Power Service Corporation on behalf of its Operating Companies: Appalachian Power Company, Columbus Southern Power Company, Indiana Michigan Power Company, Kentucky Power Company, Kingsport Power Company, Ohio Power Company, and Wheeling Power Company; Commonwealth Edison Company, Commonwealth Edison Company of Indiana, and Dayton Power and Light Company (PJM West).
| ER06-490-000 | Public Service Electric and Gas Company, PECO Energy Company, PPL Electric Utilities Corporation, Baltimore Gas and Electric Company, Jersey Central Power & Light Company, Metropolitan Edison Company, Pennsylvania Electric Company, Potomac Electric Power Company, Atlantic City Electric Company, Delmarva Power & Light Company, UGI Utilities, Inc., Allegheny Electric Cooperative, Inc., CED Rock Springs, LLC, Old Dominion Electric Cooperative, Rockland Electric Company, and Duquesne Light Company.
E-9 | ER06-506-000, ER06-506-001 | New York Independent System Operator, Inc.
E-10 | ER06-522-000 | Midwest Independent Transmission System Operator, Inc.
E-11 | ER97-4345-017 | Oklahoma Gas and Electric Company.
| ER98-511-005, EL05-107-000 | OGE Energy Resources, Inc.
E-12 | ER01-2230-001,ER01-2230-002 | New York Independent System Operator, Inc.
E-13 | OMITTED
E-14 | OMITTED
E-15 | ER02-2263-003, ER02-2263-004, ER02-2263-005 | Southern California Edison Company.
E-16 | ER03-1079-006 | Aquila, Inc.
| ER02-47-006 | Aquila Long Term, Inc.
| ER95-216-026 | Aquila Merchant Services, Inc.
| ER03-725-006 | Aquila Piatt County L.L.C.
| ER02-309-006 | MEP Clarksdale Power, LLC.
| ER02-1016-004 | MEP Flora Power, LLC.
| EL05-83-000, EL05-83-001 | Aquila, Inc., Aquila Long Term, Inc., Aquila Merchant Services, Inc., Aquila Piatt County L.L.C., MEP Clarksdale Power, LLC, and MEP Flora Power, LLC.
E-17 | OMITTED
E-18 | OMITTED
E-19 | EL04-57-002 | FPL Energy Marcus Hook, L.P. v. PJM Interconnection, L.L.C.
E-20 | OMITTED
E-21 | ER05-130-001, ER05-130-003, ER05-150-00 | Pacific Gas and Electric Company.
E-22 | OMITTED
E-23 | ER06-207-001, ER06-208-001, ER06-209-001, ER06-210-001 | Xcel Energy Services Inc.
E-24 | OMITTED
E-25 | OMITTED
E-26 | ER04-938-003, ER04-938-004 | California Independent System Operator Corporation.
E-27 | OMITTED
E-28 | ER05-611-003 | Bridgeport Energy, LLC.
E-29 | EL05-49-001 | Exelon Corporation v. PPL Electric Utilities Corporation and PJM Interconnection, LLC.
E-30 | ER00-2268-003, ER00-2268-005, ER00-2268-006, ER00-2268-007, ER00-2268-008, ER00-2268-010, ER00-2268-012, ER00-2268-013, ER00-2268-015, EL05-10-002 | Pinnacle West Capital Corporation.
| ER99-4124-001, ER99-4124-003, ER99-4124-004, ER99-4124-005, ER99-4124-006, ER99-4124-008, ER99-4124-010, ER99-4124-011, ER99-4124-013, EL05-11-002, EL05-11-004 | Arizona Public Service Company.
| ER00-3312-002, ER00-3312-004, ER00-3312-005, ER00-3312-006, ER00-3312-007, ER00-3312-009, ER00-3312-011, ER00-3312-012, ER00-3312-014, EL05-12-002, EL05-12-004 | Pinnacle West Energy Corporation.
| ER99-4122-004, ER99-4122-006, ER99-4122-007, ER99-4122-008, ER99-4122-009, ER99-4122-011, ER99-4122-013, ER99-4122-014, ER99-4122-016, EL05-13-002, EL05-13-004 | APS Energy Services Company, Inc.
| ER03-352-003 | Gen West LLC.
E-31 | ER06-517-000, ER06-524-000 | California Independent System Operator Corporation.
E-32 | ER06-532-000 | Midwest Independent Transmission System Operator, Inc., and First Energy Services Company.
E-33 | OMITTED
Miscellaneous
M-1 | RM05-33-001 | Revision of Rules of Practice and Procedure Regarding Issue Identification.
Gas
G-1 | RM05-22-0000 | Five-Year Review of Oil Pipeline Pricing Index.
G-2 | RP06-177-000 | Iroquois Gas Transmission System, L.P.
G-3 | RP05-668-002, RP05-668-001 | Southern Star Central Gas Pipeline, Inc.
G-4 | OR06-3-000 | Enbridge Energy, Limited Partnership.
G-5 | RP05-422-000 | El Paso Natural Gas Company.
G-6 | OMITTED
Energy Projects—Hydro
H-1 | P-2659-018 | PacifiCorp.
H-2 | P-2738-061 | New York State Electric & Gas Corporation.
H-3 | P-2056-038 | Northern States Power Company.
Energy Projects—Certificates
C-1 | CP06-10-000 | Dominion Transmission, Inc.

Magalie R. Salas.
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 06-2586 Filed 3-13-06; 3:45 pm]

BILLING CODE 6717-01-P